DEPARTMENT OF THE INTERIOR

Fish and Wildlife Service

[FWS-R8-R-2013-N160; FXRS1265080000-145-FF08R00000]

Guadalupe-Nipomo Dunes National Wildlife Refuge, San Luis Obispo County, CA: Intent To Prepare a Comprehensive Conservation Plan and Environmental Assessment

AGENCY: Fish and Wildlife Service, Interior.

ACTION: Notice of intent; request for comments.

SUMMARY: We, the U.S. Fish and Wildlife Service (Service), intend to prepare a Comprehensive Conservation Plan (CCP) and Environmental Assessment (EA) for the Guadalupe-Nipomo Dunes National Wildlife Refuge located in San Luis Obispo County of California. We provide this notice in compliance with our CCP policy to advise other Federal and State agencies, Tribes, and the public of our intentions, and to obtain suggestions and information on the scope of issues to consider in the planning process.

DATES: To ensure consideration, we must receive your written comments by February 4, 2014.

ADDRESSES: Send your comments or requests for more information by any of the following methods.

Email: hoppermountain@fws.gov. Include “GND CCP” in the subject line of the message.

Fax: Attn: GND CCP, 805-644-1732.

U.S. Mail: Hopper Mountain National Wildlife Refuge Complex, 2493 Portola Road, Suite A, Ventura, CA 93003.

In-Person Drop-off: You may drop off comments during regular business hours; please call 805-644-5185 for directions.

FOR FURTHER INFORMATION CONTACT: Winnie Chan, Refuge Planner at 510-792-0222 or hoppermountain@fws.gov, or Glenn Greenwald, Wildlife Refuge Manager, at 805-343-9151. Further information may also be found at http://www.fws.gov/hoppermountain/GuadalupeNDNWR/GuadalupeNipomoDunesNWR.html.

SUPPLEMENTARY INFORMATION:

Introduction

With this notice, we initiate our process for developing a CCP for Guadalupe-Nipomo Dunes National Wildlife Refuge (Refuge) in San Luis Obispo County, California. This notice complies with our CCP policy to (1) advise other Federal and State agencies, Tribes, and the public of our intention to conduct detailed planning on this refuge and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the National Wildlife Refuge System was established for specific purposes. We use these purposes as the foundation for developing and prioritizing the management goals and objectives for each refuge within the National Wildlife Refuge System mission, and to determine how the public can use each refuge. The planning process is a way for us and the public to evaluate management goals, objectives, and strategies that will ensure the best possible approach to wildlife, plant, and habitat conservation, while providing for wildlife-dependent recreation opportunities that are compatible with each refuge's establishing purposes and the mission of the National Wildlife Refuge System.

Our CCP process provides opportunities for participation by Tribal, State, and local governments; agencies; organizations; and the public. We will be contacting identified stakeholders and individuals at this time for initial input. If you would like to meet with planning staff or would like to receive periodic updates, please contact us (see ADDRESSES section). We anticipate holding public meetings for initial comments and potentially when alternative management scenarios have been identified. At this time we encourage comments in the form of issues, concerns, ideas, and suggestions for the management of the Refuge.

We will conduct the environmental review of this project in accordance with the requirements of the National Environmental Policy Act of 1969, as amended (NEPA) (42 U.S.C. 4321 et seq.); NEPA regulations (40 CFR parts 1500-1508 and 43 CFR part 46); other appropriate Federal laws and regulations; and our policies and procedures for compliance with those laws and regulations.

Guadalupe-Nipomo Dunes National Wildlife Refuge

Guadalupe-Nipomo Dunes National Wildlife Refuge was established in 2000 under the Endangered Species Act of 1973 (16 U.S.C. 1537) to preserve and conserve Central California coastal dune and associated wetlands habitats and assist in the recovery of native plants and animals that are federally listed as threatened or endangered. Interim Refuge management goals include protecting federally listed species and critical habitat, protecting and restoring biodiversity, creating and leading conservation partnerships, and providing safe and high-quality opportunities for compatible wildlife-dependent educational and recreational activities. The 2,553-acre Refuge currently is bordered to the west by the Pacific Ocean, lands owned by private agricultural interests to the east, Oso Flaco Lake Natural Area (a management unit of the Oceano Dunes State Vehicular Recreation Area) to the north, and Chevron Guadalupe Restoration Project (former Guadalupe Oil Fields) to the south.

Scoping: Preliminary Issues, Concerns, and Opportunities

We have identified preliminary issues, concerns, and opportunities that we may address in the CCP. These include: wildlife management, habitat management, wildlife-dependent recreation, environmental education, and cultural resources. During public scoping, we may identify additional issues.

Public Meetings

We will give the public an opportunity to provide input at a public meeting (or meetings). You may contact the Refuge Planner or Wildlife Refuge Manager to be added to our contact list for meeting announcements (see FOR MORE INFORMATION CONTACT). You may also submit comments during the planning process by mail, email, or fax (see ADDRESSES). There will be additional opportunities to provide public input once we have prepared a draft CCP.

Public Availability of Comments

Before including your address, phone number, email address, or other personal identifying information in your comment, you should be aware that your entire comment—including your personal identifying information—may be made publicly available at any time. While you can ask us in your comment to withhold your personal identifying information from public review, we cannot guarantee that we will be able to do so.

Alexandra Pitts,
Acting Regional Director, Pacific Southwest Region, Sacramento, California.

[FR Doc. 2013-29126 Filed 12-5-13; 8:45 am]

BILLING CODE 4310-55-P